OFFICE OF PERSONNEL MANAGEMENT

Proposed Collection; Comment Request for Review of a New Information Collection; OPM Form 1655 and OPM Form 1655-A

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for review of a new information collection. OPM 1655, Application for Senior Administrative Law Judge, and OPM 1655-A, Geographic Preference Statement for Senior Administrative Law Judge Applicant, are used by retired Administrative Law Judges seeking reemployment on a temporary and intermittent basis to complete hearings of one or more specified case(s) in accordance with the Administrative Procedures Act of 1946.

Approximately 150 OPM 1655 are completed annually. Each form takes approximately 30-45 minutes to complete. The annual estimated burden is 94 hours. Approximately 200 OPM 1655-A are completed annually. Each form takes approximately 15-25 minutes to complete. The annual estimated burden is 67 hours.

Comments are particularly invited on:

• Whether this information is necessary for the proper performance of functions of OPM, and whether it will have practical utility;

• Whether our estimates of the public burden of this collection of information is accurate, and based on valid assumptions and methodology;

• And ways in which we can minimize the burden of the collection of information on those who are to respond, through the use of appropriate technological collection techniques or other forms of information technology.

For copies of this proposal, contact Mary Beth Smith-Toomey on (202) 606-8358, Fax (202) 418-3251 or e-mail to mbtoomey@opm.gov. Please be sure to include a mailing address with your request.

DATES: Comments on this proposal should be received within 60 calendar days from the date of this publication.

ADDRESSES: Send or deliver comments to—Juanita H. Love, Program Manager, Administrative Law Judge Program Office, Human Capital Leadership & Merit System, Accountability Division, U.S. Office of Personnel Management, 1900 E Street, NW., Room 7425, Washington, DC 20415.

For Information Regarding Administrative Coordination Contact: Karyn D. Lusby, Program Analyst, Administrative Law Judge Program Office, Human Capital Leadership & Merit System, Accountability Division, U.S. Office of Personnel Management, 1900 E Street, NW., Room 7425, Washington, DC 20415, karyn.lusby@opm.gov.

Office of Personnel Management.
Dan G. Blair,
Deputy Director.

[FR Doc. E6-12784 Filed 8-4-06; 8:45 am]

BILLING CODE 6325-43-P